DEPARTMENT OF ENERGY

Federal Energy Regulatory Commission

[Project No. 2413-056]

Georgia Power Company; Notice of Availability of Environmental Assessment

October 9, 2003.

In accordance with the National Environmental Policy Act of 1969 and the Federal Energy Regulatory Commission's (Commission) regulations, 18 CFR part 380 (Order No. 486, 52 FR 47897), the Office of Energy Projects' staff has prepared an Environmental Assessment (EA) for an application requesting Commission approval to permit Georgia Power Company (licensee) to construct a non-project electric transmission line that will cross a portion of the lands and waters of the Wallace Dam Project. The Wallace Dam Project is located on the Oconee and Altahama Rivers in Putnam, Morgan, Oglethorpe, Greene and Hancock Counties, Georgia.

The EA contains the staff's analysis of the potential environmental impacts of the proposal and concludes that approval of the proposal would not constitute a major federal action that would significantly affect the quality of the human environment.

A copy of the EA is available for review at the Commission in the Public Reference Room, or it may be viewed on the Commission's Web site at http://www.ferc.gov using the “eLibrary” link. Enter the docket number excluding the last three digits in the docket number field to access the document. For assistance, please call (866) 208-3676 or contact FERCOnLineSupport@ferc.gov. For TTY, contact (202) 502-8659.

For further information, contact Rebecca Martin at 202-502-6012.

Magalie R. Salas,
Secretary.

[FR Doc. E3-00261 Filed 11-14-03; 8:45 am]

BILLING CODE 6717-01-P